DEPARTMENT OF VETERANS AFFAIRS

Rehabilitation Research and Development Service Scientific Merit Review Board; Notice of Meeting

The Department of Veterans Affairs gives notice under Public Law 92-463 (Federal Advisory Committee Act) that a meeting of the Rehabilitation Research and Development Service Scientific Merit Review Board will be held on December 11-12, 2006, at the Sofitel Lafayette Hotel, 806 15th Street, NW., Washington, DC. The meeting sessions will begin at 8 a.m. and end at 5:30 p.m. each day.

The purpose of the Board is to review rehabilitation research and development applications for scientific and technical merit and to make recommendations to the Director, Rehabilitation Research and Development Service, regarding their funding.

The meeting will be open to the public on December 11, 2006 from 8 a.m. to 9 a.m. for the discussion of administrative matters, the general status of the program and the administrative details of the review process. The meeting will be closed on December 11, 2006 from 9 a.m. to 5:30 p.m. and on December 12, 2006 from 8 a.m. to 5:30 p.m. for the Board's review of research and development applications.

This review involves oral comments, discussion of site visits, staff and consultant critiques of proposed research protocols, and similar analytical documents that necessitate the consideration of the personal qualifications, performance, and competence of individual research investigators. Disclosure of such information would constitute a clearly unwarranted invasion of personal privacy. Disclosure would also reveal research proposals and research underway which could lead to the loss of these projects to third parties and thereby frustrate future agency research efforts. Thus, the closing in accordance with 5 U.S.C. 552b(c)(6), and (c)(9)(B) and the determination of the Secretary of the Department of Veterans Affairs under Section 10(d) of Public Law 92-463 as amended by Section 5(c) of Public Law 94-409.

Those who plan to attend the open session should contact Denise Burton, PhD, Federal Designated Officer, Portfolio Manager, Rehabilitation Research and Development Service (122), Department of Veterans Affairs, 810 Vermont Avenue, NW., Washington, DC 20420, at (202) 254-0268.

Dated: October 31, 2006.
By direction of the Secretary
E. Philip Riggin,
Committee Management Officer.

[FR Doc. 06-9184 Filed 11-13-06; 8:45 am]

BILLING CODE 8320-01-M